SMALL BUSINESS ADMINISTRATION

[Disaster Declaration #11893 and #11894]

American Samoa Disaster Number AS-00003

AGENCY: U.S. Small Business Administration.

ACTION: Amendment 1.

SUMMARY: This is an amendment of the Presidential declaration of a major disaster for the State of American Samoa (FEMA-1859-DR), dated 09/29/2009.

Incident: Earthquake, tsunami, and flooding.

Incident Period: 09/29/2009 and continuing through 10/06/2009.

DATES: Effective Date: 10/06/2009.

Physical Loan Application Deadline Date: 11/30/2009.

EIDL Loan Application Deadline Date: 06/29/2010.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the State of American Samoa, dated 09/29/2009 is hereby amended to establish the incident period for this disaster as beginning 09/29/2009 and continuing through 10/06/2009.

All other information in the original declaration remains unchanged.

(Catalog of Federal Domestic Assistance Numbers 59002 and 59008)

Roger B. Garland,
Acting Associate Administrator for Disaster Assistance.

[FR Doc. E9-25057 Filed 10-16-09; 8:45 am]

BILLING CODE 8025-01-P